ENVIRONMENTAL PROTECTION AGENCY

[FRL-12233-01-OA]

Science Advisory Board Scientific and Technological Achievement Awards Panel; Closed Meeting

AGENCY: Environmental Protection Agency (EPA).

ACTION: Notice.

SUMMARY: The Environmental Protection Agency (EPA) Science Advisory Board (SAB) Staff Office announces a meeting of the Scientific and Technological Achievement Awards (STAA) Panel. The purpose of the meeting is to review nominations and make recommendations for the Early Career Science and Technology Award. The meeting is closed to the public.

DATES: The SAB STAA Panel will meet on the following dates. All times listed are in eastern time.

1. November 4, 2024, from 10:30 a.m. to 4 p.m.

2. November 6, 2024, from 10:30 a.m. to 3 p.m.

3. November 13, 2024, from 10:30 a.m. to 3 p.m.

ADDRESSES: The SAB STAA Panel meeting will be conducted virtually.

FOR FURTHER INFORMATION CONTACT: Members of the public who wish to obtain further information concerning this notice may contact Dr. Shaunta Hill-Hammond, Designated Federal Officer (DFO), via telephone (202) 564-3343, or via email at hill-hammond.shaunta@epa.gov. General information about the SAB as well as any updates concerning the meeting announced in this notice can be found on the SAB website at https://sab.epa.gov.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C. 10. The SAB will comply with the provisions of FACA and all appropriate SAB Staff Office procedural policies. Pursuant to FACA and EPA policy, notice is hereby given that the SAB STAA Panel, will hold a closed meeting to review nominations for the Early Career Science and Technology Award and make recommendations for award recipients.

The Early Career Science and Technology Award at EPA, established in 2024, recognizes early-career professionals who have made distinguished contributions to scientific research or technology development to EPA and show exceptional promise of continued achievements throughout their EPA career. All technical staff (e.g., mathematicians, engineers, social/physical/biological/computational scientists, physicians, and others) are eligible for this annual award. Recipient(s) receive a one-time monetary stipend of $10,000 and a commemorative plaque.

The SAB reviews the STAA nomination packages according to the following three evaluation factors:

• Scientific achievements: How has the nominee led, conducted, or influenced scientific research that significantly advanced a field of research (to include the integration and synthesis of data) or developed technology within the employee's scientific or technical area of expertise, such that the product of their work had a substantial impact on the mission of ORD and EPA.

• Impact: How have the efforts of the nominee resulted in improved customer, partner, or stakeholder satisfaction through documented accolades, recognition, or direct influence on decisions or actions and consistently demonstrated the highest level of accountability in achieving the organization's, ORD's and the Agency's goals and mission.

• Partnership: How have efforts of the nominee led or initiated significant collaborations successfully influencing the organization, workgroup, or teams in activities or projects that result in improvements in program policies, processes, or other key activities (commensurate with career stage).

I have determined that the meetings of the STAA Panel and Chartered SAB will be closed to the public because they are concerned with selecting employees deserving of awards. In making these recommendations, the Agency requires full and frank advice from the SAB. This advice will involve professional judgments on the relative merits of various employees and their respective work. Such matters relate solely to EPA's internal personnel rules and practices and involve the discussion of information that is of a personal nature and the disclosure of which would be a clearly unwarranted invasion of personal privacy and, therefore, are protected from disclosure by section 10(d) of the Federal Advisory Committee Act (FACA), 5 U.S. Code 10, and subsections (c)(2) and (c)(6) of the Government in the Sunshine Act, 5 U.S.C. 552b. Minutes of the meetings of the STAA Panel and the Chartered SAB will be kept and certified by the chair of those meetings.

Meeting cancellation: The November 6, 2024 and November 13, 2024 meeting dates may be cancelled if the STAA Panel concludes its deliberative discussions early.

Michael S. Regan,
Administrator.

[FR Doc. 2024-22032 Filed 9-25-24; 8:45 am]

BILLING CODE 6560-50-P